DEPARTMENT OF STATE

[Public Notice 11118]

Statutory Debarment Under the Arms Export Control Act and the International Traffic in Arms Regulations

ACTION: Notice.

SUMMARY: Notice is hereby given that the Department of State has imposed statutory debarment under the International Traffic in Arms Regulations (“ITAR”) on persons convicted of violating, or conspiracy to violate, Section 38 of the Arms Export Control Act (AECA).

DATES: Debarment imposed as of May 20, 2020.

FOR FURTHER INFORMATION CONTACT: Jae Shin, Director, Office of Defense Trade Controls Compliance, Bureau of Political-Military Affairs, Department of State (202) 632-2107.

SUPPLEMENTARY INFORMATION: Section 38(g)(4) of the AECA, 22 U.S.C. 2778(g)(4), restricts the Department of State from issuing licenses for the export of defense articles or defense services where the applicant, or any party to the export, has been convicted of violating certain statutes, including section 38 of the AECA. The statute permits the President to make certain exceptions on a case-by-case basis. Section 127.7(b) of the ITAR also provides for “statutory debarment” of any person who has been convicted of violating or conspiring to violate the AECA. Under this policy, persons subject to statutory debarment are prohibited from participating directly or indirectly in any activities that are regulated by the ITAR.

Statutory debarment is based solely upon conviction in a criminal proceeding, conducted by a United States court, and as such the administrative debarment procedures outlined in Part 128 of the ITAR are not applicable.

It is the policy of the Department of State that statutory debarment lasts for a three year period following conviction. Unless export privileges are reinstated, however, the person remains debarred. Reinstatement is not automatic, and in all cases the debarred person must submit a request for reinstatement to the Department of State and be approved for reinstatement before engaging in any activities subject to this subchapter.

Department of State policy permits debarred persons to apply to the Director, Office of Defense Trade Controls Compliance, for reinstatement beginning one year after the date of the debarment. Any decision to grant reinstatement can be made only after the statutory requirements of Section 38(g)(4) of the AECA have been satisfied. Certain exceptions, known as transaction exceptions, may be made to this debarment determination on a case-by-case basis. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons, having been convicted in a U.S. District Court, are statutorily debarred as of the date of this notice (Name; Date of Judgment; Judicial District; Case No.; Month/Year of Birth):

(1) Asad-Ghanem, Rami Najm (aka Ghanem, Rami Najm); August 19, 2019; Central District of California; 2:15-cr-00704; June 1966.

(2) Boyko, Gennadiy; December 7, 2018; Northern District of Georgia; 1:16-cr-00338; February 1970.

(3) Browning, Scott Douglas; August 9, 2019; Eastern District of North Carolina; 5:18-cr-00036; April 1977.

(4) Brunt, Paul Stuart; March 1, 2019; Western District of Washington; 2:18-cr-00025; February 1966.

(5) Chehade, Walid; May 8, 2019; Western District of Michigan; 1:17-cr-00263; July 1981.

(6) Dequarto, Dominick; December 5, 2018; Middle District of Florida; 8:18-cr-00320; December 1965.

(7) Diab, Hicham, June 11, 2019; Western District of Washington; 2:18-cr-00282; July 1976.

(8) El Mir, Nafez; June 11, 2019; Western District of Washington; 2:18-cr-00282; November 1967.

(9) Heubschmann, Andy Lloyd; December 17, 2019; Eastern District of Wisconsin; 1:19-cr-00119; November 1959.

(10) Joseph, Junior Joel; April 12, 2019; Southern District of Florida; 9:18-cr-80139; February 1978.

(11) Peterson, John James; November 18, 2019; Southern District of Florida; 1:19-cr-20442; February 1959.

(12) Prezas, Julian; November 3, 2017; Western District of Texas; 5:16-cr-00040; January 1980.

(13) Rodriguez, Chris; October 18, 2019; Eastern District of Virginia; 1:19-cr-00153; April 1962.

(14) Ruchtein, Sergio; October 29, 2019; Eastern District of Pennsylvania; 2:19-cr-00309; October 1967.

(15) Saiag, Allexander (aka Saiag, Alexandre); November 22, 2019; Eastern District of New York; 1:19-cr-00129; September 1986.

(16) Saidi, Abdul Majid; March 15, 2019; Western District of Michigan; 1:17-cr-00263; March 1976.

(17) Shapovalov, Michael (aka Mikhail Shapovalov); May 29, 2018; District of Connecticut; 3:17-cr-00272; November 1986.

(18) Sheng, Zimo; December 14, 2018; Eastern District of Wisconsin; 2:18-cr-00108; August 1989.

(19) Srivaranon, Apichart, April 15, 2019; District of Maryland; 8:16-cr-00542; February 24, 1985.

(20) Taylor, Maurice; July 22, 2019; Southern District of Mississippi; 3:18-cr-00260; October 1985.

(21) Tishchenko, Oleg Mikhaylovich; June 21, 2019; District of Utah; 1:16-cr-00034; April 1977.

(22) Zamarron-Luna, Carlos Antonio; October 19, 2019; Southern District of Texas; 7:18-cr-01043; March 1967.

(23) Zuppone, Brunella; November 18, 2019; Southern District of Florida; 1:19-cr-20442; May 1952.

As noted above, at the end of the three-year period following the date of this notice, the above named persons/entities remain debarred unless export privileges are reinstated. Debarred persons are generally ineligible to participate in activity regulated under the ITAR (see e.g., sections 120.1(c) and (d), and 127.11(a)). Also, under Section 127.1(d) of the ITAR, any person who has knowledge that another person is subject to debarment or is otherwise ineligible may not, without disclosure to and written approval from the Directorate of Defense Trade Controls, participate, directly or indirectly, in any ITAR-controlled transaction where such ineligible person may obtain benefit therefrom or have a direct or indirect interest therein.

This notice is provided for purposes of making the public aware that the persons listed above are prohibited from participating directly or indirectly in activities regulated by the ITAR, including any brokering activities and any export from or temporary import into the United States of defense articles, technical data, or defense services in all situations covered by the ITAR. Specific case information may be obtained from the Office of the Clerk for the U.S. District Courts mentioned above and by citing the court case number where provided.

R. Clarke Cooper,
Assistant Secretary, Bureau of Political-Military Affairs, Department of State.

[FR Doc. 2020-10862 Filed 5-19-20; 8:45 am]

BILLING CODE 4710-25-P